DEPARTMENT OF HOUSING AND URBAN DEVELOPMENT

[Docket No. FR-5321-C-02]

Notice of Availability: Notice of Fund Availability (NOFA) for Fiscal Year 2009 Neighborhood Stabilization Program 2 Under the American Recovery and Reinvestment Act of 2009; Correction

AGENCY: Office of the Assistant Secretary for Community Planning and Development, HUD.

ACTION: Notice.

SUMMARY: On May 7, 2009, HUD posted on its Web site its Notice of Funding Availability (NOFA) for competitive grants for the Neighborhood Stabilization Program 2 (NSP2), authorized under the American Recovery and Reinvestment Act of 2009 (Recovery Act) (Pub. L. 111-5, approved February 17, 2009). The purpose of the NSP2 program is to stabilize neighborhoods whose viability has been and continues to be damaged by the economic effects of properties that have been foreclosed upon and abandoned. Today's Federal Register publication announces that HUD has posted a notice correcting the NSP2 NOFA on its Web site. Specifically, the notice corrects the NSP2 NOFA to, among other things, permit NSP2 applicants to use a combined index score to determine whether they meet the geographic targeting threshold requirement, correct section (C) of the eligible activities table, and rescind the aggregate 5 percent purchase discount while leaving the 1 percent discount on individual purchases intact. The notice correcting the NSP2 NOFA is available on the HUD Web site at http://www.hud.gov/recovery.

FOR FURTHER INFORMATION CONTACT: Stanley Gimont, Director, Office of Block Grant Assistance, Department of Housing and Urban Development, Room 7286, 451 Seventh Street, SW., Washington, DC 20410, telephone number (202) 708-3587. Persons with hearing or speech impairments may access this number via TTY by calling the Federal Information Relay Service at (800) 877-8339. FAX inquiries may be sent to Mr. Gimont at (202) 401-2044. (Except for the “800” number, these telephone numbers are not toll-free.)

Dated: June 11, 2009.
Nelson R. Bregón,
General Deputy Assistant Secretary for Community Planning and Development.

[FR Doc. E9-14285 Filed 6-12-09; 4:15 pm]

BILLING CODE 4210-67-P